DEPARTMENT OF ENERGY

Federal Energy Regulatory Commission

[Docket No. PF06-34-000]

Ozark Gas Transmission, LLC; Notice of Scoping Meetings for the Proposed Ozark Gas Transmission East End Expansion Project, LLC'S

December 14, 2006.

On December 4, 2006 the Federal Energy Regulatory Commission (FERC or Commission) issued a Notice of Intent to Prepare an Environmental Impact Statement (EIS) For the Proposed East End Expansion Project and Request for Comments on Environmental Issues in the above-referenced docket. The Notice stated that public scoping meetings would be announced in a future Notice. Four public scoping meetings are now planned, and the dates, locations, and times are presented below:

January 8, 2007; 6 to 8 p.m., St. Mary Church Hall, 11 Kaufman Lane, Hattieville, AR 72063, Telephone: (501) 354-3206

January 9, 2007; 6 to 8 p.m., Carmichael Community Center, 801 S. Elm Street, Searcy, AR 72143, Telephone: (501) 279-1010

January 10, 2007; 6 to 8 p.m., Phillips College-Fine Arts Center, 1000 Campus Drive, Helena, AR, Telephone: (870) 816-1291

January 11, 2007: 6 to 8 p.m., Batesville Civic Center, 290 Civic Center Drive, Batesville, MS 38606, Telephone: (662) 563-1392

Additional Information

Additional information can be obtained about the project on Ozark Gas Transmission, LLC's Web site at: http://www.latec.com/ozark. Additional information about the project is also available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-21699 Filed 12-19-06; 8:45 am]

BILLING CODE 6717-01-P